DEPARTMENT OF AGRICULTURE

U.S. Codex Office

Codex Alimentarius Commission: Meeting of the Codex Committee on Methods of Analysis and Sampling

AGENCY: U.S. Codex Office, USDA.

ACTION: Notice of public meeting and request for comments.

SUMMARY: The U.S Codex Office is sponsoring a public meeting on April 13, 2021. The objective of the public meeting is to provide information and receive public comments on agenda items and draft United States (U.S.) positions to be discussed at the 41st Session of the Codex Committee on Methods of Analysis and Sampling (CCMAS) of the Codex Alimentarius Commission in Budapest, Hungary, May 17-21, 2021. The U.S. Manager for Codex Alimentarius and the Acting Under Secretary for Trade and Foreign Agricultural Affairs (TFAA) recognize the importance of providing interested parties the opportunity to obtain background information on the 41st Session of the CCMAS and to address items on the agenda.

DATES: The public meeting is scheduled for April 13, 2021 from 1:00 p.m. to 3:00 p.m. EST.

ADDRESSES: The public meeting will take place via Video Teleconference hosted by the U.S. Codex Office. Documents related to the 41st Session of the CCMAS will be accessible via the internet at the following address: http://www.fao.org/fao-who-codexalimentarius/meetings/detail/en/?meeting=CCMAS&session=41.

Dr. Gregory Noonan, U.S. Delegate to the 41st Session of the CCMAS, invites U.S. interested parties to submit their comments electronically to the following email address: gregory.noonan@fda.hhs.gov.

Registration: Attendees may register to attend the virtual public meeting here: https://www.zoomgov.com/meeting/register/vJIscuCqqj4oEzgWRDWAK93lKD-mNRIX2gw or by emailing Ms. Heather Selig (heather.selig@usda.gov) by April 1st, 2021.

For Further Information about the 41st Session of the CCMAS: Contact the U.S. Delegate, Dr. Gregory Noonan, Director, Division of Bioanalytical Chemistry, Center for Food Safety and Applied Nutrition, U.S. Food and Drug Administration, 5001 Campus Drive, College Park, MD 20740, Phone: (240) 402-2250, Fax: (301) 436-2332, Email: gregory.noonan@fda.hhs.gov.

For Further Information about the public meeting contact: U.S. Codex Office, 1400 Independence Avenue SW, Room 4861, South Agriculture Building, Washington, DC 20250. Phone (202) 720-7760, Fax: (202) 720-3157, Email: uscodex@usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference of the Codex Committee on Methods of Analysis and Sampling (CCMAS) are:

(a) To define the criteria appropriate to Codex Methods of Analysis and Sampling;

(b) to serve as a coordinating body for Codex with other international groups working in methods of analysis and sampling and quality assurance systems for laboratories;

(c) to specify, on the basis of final recommendations submitted to it by the other bodies referred to in (b) above, Reference Methods of Analysis and Sampling appropriate to Codex Standards which are generally applicable to a number of foods;

(d) to consider, amend, if necessary, and endorse, as appropriate, methods of analysis and sampling proposed by Codex (Commodity) Committees, except that methods of analysis and sampling for residues of pesticides or veterinary drugs in food, the assessment of microbiological quality and safety in food, and the assessment of specifications for food additives, do not fall within the terms of reference of this Committee;

(e) to elaborate sampling plans and procedures, as may be required;

(f) to consider specific sampling and analysis problems submitted to it by the Commission or any of its Committees; and

(g) to define procedures, protocols, guidelines, or related texts for the assessment of food laboratory proficiency, as well as quality assurance systems for laboratories.

The CCMAS is hosted by Hungary. The United States attends CCMAS as a member country of Codex.

Issues To Be Discussed at the Public Meeting

The following items on the Agenda for the 41st Session of the CCMAS will be discussed during the public meeting:

• Matters referred to the Committee by the Codex Alimentarius Commission and Other Subsidiary Bodies

• Endorsement of Methods of Analysis Provisions and Sampling Plans in Codex Standards

○ Review of Methods of Analysis in Dairy Workable Package

○ Review of Methods of Analysis in Fats and Oils Workable Package

○ Review of Methods of Analysis in Cereals, Pulses, and Legumes Workable Package

• Revision of the Guidelines on Measurement Uncertainty

• Revision of the General Guidelines on Sampling

• Discussion Paper on Criteria to Select Type II Methods from Multiple Type III Methods

• Report of an Inter-Agency Meeting on Methods of Analysis Conference Room Document (CRD)

• Other Business and Future Work

Public Meeting

At the April 13, 2021 public meeting, draft U.S. positions on the agenda items will be discussed, and attendees will have the opportunity to pose questions and offer comments. Written comments may be offered at the meeting or sent to Dr. Gregory Noonan, U.S. Delegate for the 41st Session of the CCMAS (see ADDRESSES). Written comments should state that they relate to the activities of the 41st Session of the CCMAS.

Additional Public Notification

Public awareness of all segments of rulemaking and policy development is important. Consequently, the U.S. Codex Office will announce this Federal Register publication on-line through the USDA web page located at: http://www.usda.gov/codex/, a link that also offers an email subscription service providing access to information related to Codex. Customers can modify their subscriptions and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (braille, large print, audiotape, etc.) should contact USDA's TARGET Center at (202) 720-2600 (voice and TDD).

Done at Washington, DC, on February 3, 2021.
Mary Lowe,
U.S. Manager for Codex Alimentarius.

[FR Doc. 2021-02703 Filed 2-9-21; 8:45 am]

BILLING CODE P